OFFICE OF PERSONNEL MANAGEMENT

Excepted Service

AGENCY: Office of Personnel Management.

ACTION: Notice.

SUMMARY: This gives notice of positions placed or revoked under Schedule C in the excepted service, as required by Civil Service Rule VI, Exceptions from the Competitive Service.

FOR FURTHER INFORMATION CONTACT: Pam Shivery, Director, Washington Service Center, Employment Service (202) 606-1015.

SUPPLEMENTARY INFORMATION: Individual authorities established under Schedule C between April 1, 2002, and April 30, 2002, appear in the listing below. Future notices will be published on the fourth Tuesday of each month, or as soon as possible thereafter. A consolidated listing of all authorities as of June 30 will also be published.

Schedule C

The following Schedule C authorities were established during April 2002:

Council on Environmental Quality

Associate Director for Energy and Transportation to the Chairman, Council on Environmental Quality. Effective April 15, 2002.

Department of Agriculture

Special Assistant to the Under Secretary for Food Safety. Effective April 9, 2002.

Special Assistant to the Director of Human Resources Management. Effective April 12, 2002.

Department of the Army (DOD)

Confidential Assistant to the General Counsel of the Army. Effective April 3, 2002.

Special Assistant to the Assistant Secretary of the Army (Installations and Environment). Effective April 4, 2002.

Special Assistant to the General Counsel of the Army. Effective April 15, 2002.

Special Assistant to the General Counsel of the Army. Effective April 23, 2002.

Department of Commerce

Confidential Assistant to the Executive Assistant to the Secretary. Effective April 1, 2002.

Special Assistant for National Marine Fisheries Service to the Director, Office of Legislative Affairs. Effective April 3, 2002.

Special Assistant to the Chief of Staff. Effective April 3, 2002.

Public Affairs Specialist to the National Director, Minority Business Development Agency. Effective April 5, 2002.

Legislative Affairs Specialist to the Assistant Secretary for Legislative and Intergovernmental Affairs. Effective April 12, 2002.

Senior Advisor to the Assistant Secretary for Communications and Information. Effective April 17, 2002.

Press Secretary to the Director of Communications. Effective April 24, 2002.

Special Assistant to the Deputy Assistant Secretary for Service Industries, Tourism and Finance. Effective April 30, 2002.

Department of Defense

Civilian Executive Assistant to the Special Assistant to the Secretary of Defense (White House Liaison). Effective April 9, 2002.

Special Assistant to the Inspector General, Department of Defense. Effective April 12, 2002.

Defense Fellow to the Special Assistant to the Secretary of Defense (White House Liaison). Effective April 17, 2002.

Staff Assistant to the Assistant Secretary of Defense (International Security Policy). Effective April 23, 2002.

Staff Assistant to the Assistant Secretary of Defense (International Security Policy). Effective April 23, 2002.

Staff Assistant to the Assistant Secretary of Defense (International Security Policy). Effective April 23, 2002.

Special Advisor to the Under Secretary of Defense (Policy). Effective April 24, 2002.

Staff Specialist to the Director, Small and Disadvantaged Business Utilization. Effective April 25, 2002.

Confidential Assistant to the Secretary of Defense. Effective April 26, 2002.

Staff Assistant to the Deputy Assistant Secretary of Defense for East Asia and Pacific. Effective April 29, 2002.

Department of Education

Special Assistant to the Chief of Staff. Effective April 3, 2002.

Confidential Assistant to the Special Assistant (Executive Assistant). Effective April 4, 2002.

Special Assistant to the Assistant Secretary for Civil Rights. Effective April 4, 2002.

Deputy Chief of Staff for Strategy/Policy to the Chief of Staff. Effective April 5, 2002.

Special Assistant to the Director, Office English Language Acquisition. Effective April 9, 2002.

Special Assistant to the Deputy Secretary. Effective April 11, 2002.

Special Assistant to the Chief of Staff. Effective April 11, 2002.

Special Assistant to the Assistant Secretary for Vocational and Adult Education. Effective April 17, 2002.

Deputy Regional Representative, Region IV to the Secretary's Regional Representative. Effective April 17, 2002.

Special Assistant to the Assistant Secretary for Special Education and Rehabilitative Services. Effective April 17, 2002.

Special Assistant to the Deputy Assistant Secretary for Regional Services, Office of Intergovernmental and Interagency Affairs, Atlanta , Georgia. Effective April 17, 2002.

Special Assistant to the Director, Office of Public Affairs. Effective April 23, 2002.

Confidential Assistant to the Chief of Staff. Effective April 25, 2002.

Confidential Assistant to the Assistant Secretary for Legislation and Congressional Affairs. Effective April 26, 2002.

Confidential Assistant to the Director, Scheduling and Briefing Staff. Effective April 26, 2002.

Special Assistant to the Assistant Secretary for Special Education and Rehabilitative Services. Effective April 26, 2002.

Deputy Regional Representative, Dallas Texas, to the Secretary's Regional Representative. Effective April 29, 2002.

Special Assistant to the Assistant Secretary for Intergovernmental and Interagency Affairs. Effective April 29, 2002.

Department of Energy

Trip Coordinator to the Director, Office of Scheduling and Advance. Effective April 3, 2002.

Congressional Affairs Officer to the Assistant Secretary for Fossil Energy. Effective April 3, 2002.

Senior Advisor to the Assistant Secretary for Congressional and Intergovernmental Affairs. Effective April 9, 2002.

Deputy Director of Advance for Strategic Initiatives to the Director, Office of Scheduling and Advance. Effective April 9, 2002.

Senior Policy Advisor to the Assistant Secretary for Fossil Energy. Effective April 12, 2002.

Confidential Assistant to the Assistant Secretary for Congressional and Intergovernmental Affairs. Effective April 12, 2002.

Special Assistant to the Assistant Secretary for Congressional and Intergovernmental Affairs. Effective April 16, 2002.

Senior Policy Advisor to the Assistant Secretary for Policy and International Affairs. Effective April 19, 2002.

Director of Intergovernmental Affairs to the Deputy Assistant Secretary for Intergovernmental and External Affairs. Effective April 19, 2002.

Deputy Assistant Secretary for Environmental Science to the Assistant Secretary for Congressional and Intergovernmental Affairs. Effective April 25, 2002.

Department of Health and Human Services

Special Assistant to the Assistant Secretary for Public Affairs. Effective April 4, 2002.

Associate Commissioner to the Commissioner, Administration for Children, Youth and Families. Effective April 8, 2002.

Special Assistant to the Commissioner, Administration for Children, Youth and Families. Effective April 16, 2002.

Special Assistant to the Deputy Director, Office of Child Support Enforcement. Effective April 26, 2002.

Department of Housing and Urban Development

Special Assistant to the Regional Director, Chicago, Illinois. Effective April 5, 2002.

Staff Assistant to the Deputy Assistant Secretary for Congressional and Intergovernmental Relations. Effective April 15, 2002.

Special Assistant to the Assistant Secretary for Administration. Effective April 17, 2002.

Regional Director, Kansas City, Kansas to the Assistant Deputy Secretary for Field Policy and Management. Effective April 17, 2002.

Regional Director, Denver Colorado to the Assistant Deputy Secretary for Field Policy and Management. Effective April 18, 2002.

Staff Assistant to the Director of Executive Scheduling. Effective April 19, 2002.

Staff Assistant to the Regional Director, Atlanta, Georgia. Effective April 19, 2002.

Special Assistant to the Regional Director, Philadelphia, Pennsylvania. Effective April 26, 2002.

Legislative Officer to the Deputy Assistant Secretary for Legislation. Effective April 30, 2002.

Department of the Interior

Public Affairs Specialist to the Director, External and Internal Governmental Affairs. Effective April 8, 2002.

Chief, Congressional and Legislative Affairs to the Director of External and Intergovernmental Affairs. Effective April 12, 2002.

Special Assistant to the Assistant Secretary Indian Affairs. Effective April 15, 2002.

Special Assistant to the Director, External and Intergovernmental Affairs. Effective April 30, 2002.

Department of Justice

Public Affairs Specialist to the Director, Office of Public Affairs. Effective April 3, 2002.

Special Assistant to the Assistant Attorney General, Civil Rights Division. Effective April 19, 2002.

Senior Counsel to the Director and Project Safe Neighborhoods Coordinator. Effective April 19, 2002.

Director, Office of Police Corps and Law Enforcement Education to the Assistant Attorney General, Office of Justice Programs. Effective April 29, 2002.

Department of Labor

Special Assistant to the Assistant Secretary for Employment and Training Administration. Effective April 9, 2002.

Staff Assistant to the Director of Public Liaison. Effective April 17, 2002.

Department of State

Foreign Affairs Officer to the Under Secretary for Global Affairs. Effective April 5, 2002.

Staff Assistant to the Under Secretary for Global Affairs. Effective April 9, 2002.

Special Assistant to the Deputy Assistant Secretary, Chief Operating Officer of Overseas Buildings Operations. Effective April 9, 2002.

Director, Art in Embassies Program to the Deputy Assistant Secretary, Chief Operating Officer of Overseas Buildings Operations. Effective April 9, 2002.

Legislative Management Officer to the Assistant Secretary for Legislative Affairs. Effective April 19, 2002.

Public Affairs Specialist to the Deputy Assistant Secretary (Principal) in Public Affairs. Effective April 22, 2002.

Department of Transportation

Director of Public Affairs to the Administrator, Research and Special Programs Administration. Effective April 11, 2002.

Deputy Assistant Secretary to the Assistant Secretary for Governmental Affairs. Effective April 15, 2002.

Special Assistant to the Assistant to the Secretary and Director of Public Affairs. Effective April 23, 2002.

Executive Assistant to the Associate Deputy Secretary of Transportation. Effective April 29, 2002.

Department of the Treasury

Deputy Director for Scheduling and Advance to the Director of Scheduling. Effective April 17, 2002.

Deputy Assistant Secretary to the Assistant Secretary for Financial Institutions. Effective April 17, 2002.

Deputy Assistant Secretary to the Assistant Secretary, Legislative Affairs. Effective April 29, 2002.

Environmental Protection Agency

Deputy Associate Administrator to the Associate Administrator, Office of Congressional Affairs. Effective April 5, 2002.

Federal Emergency Management Agency

Legislative Branch Chief to the Director of Congressional and Intergovernmental Affairs Division. Effective April 11, 2002.

Advisor for Media Affairs to the Director, Public Affairs. Effective April 22, 2002.

Assistant Division Director to the Director, Public Affairs Division. Effective April 25, 2002.

General Services Administration

Special Assistant to the Chief of Staff, Public Buildings Service. Effective April 17, 2002.

National Transportation Safety Board

Director, Office of Communications to the Chairman. Effective April 2, 2002.

Director, Office of Family Members to the Chairman. Effective April 18, 2002.

Office of Management and Budget

Confidential Assistant to the Associate Director for Information Technology and E-Government. Effective April 5, 2002.

Confidential Assistant to the Associate Director for Legislative Affairs. Effective April 25, 2002.

Office of National Drug Control Policy

Special Assistant to the Director, Office of National Drug Control Policy. Effective April 3, 2002.

Information Receptionist to the Director, Office of the National Drug Control Policy. Effective April 3, 2002.

Office of Personnel Management

Special Counselor to the General Counsel. Effective April 9, 2002.

Office of Science and Technology Policy

Assistant to the Director for Communications. Effective April 15, 2002.

Social Security Administration

Special Assistant to the Commissioner of Social Security. Effective April 9, 2002.

Authority: 5 U.S.C. 3301 and 3302; E.O. 10577, 3 CFR 1954-1958 Comp., P.218.

Office of Personnel Management.
Kay Coles James,
Director.

[FR Doc. 02-12579 Filed 5-17-02; 8:45 am]

BILLING CODE 6325-38-P